Title 3—

The President

Proclamation 8589 of October 22, 2010

United Nations Day, 2010

By the President of the United States of America

A Proclamation

Sixty-five years ago, 51 nations came together in the aftermath of one of history’s most devastating wars to rededicate themselves to peace, justice, and progress. The founders of the United Nations vowed to work together to ensure that the horrors seen in World War II would never be repeated. On United Nations Day, we join our friends around the world in reflecting on our shared interests and renewing our commitment to international law, common security, accountability, and prosperity for all peoples.

The United Nations has made great advances since it first developed out of ruin and genocide, and, today, this partnership includes 192 member states. Throughout its journey to live up to its founding values, it has remained an indispensable vehicle for coordinated action to tackle global problems. In a time when we face challenges such as nuclear proliferation, climate change, transnational terrorism, food security risks, and pandemic disease, we must work as one to build the kind of world we want to see in the 21st century.

This vital international body provides a forum and framework for leaders to come together to advance our shared ideals. Through its broad range of peace operations, it helps limit and resolve conflicts that could otherwise threaten the security of individuals and the stability of nations. The United Nations’ humanitarian assistance lifts up countless lives, supporting nations in meeting the most immediate human needs and in building their own capabilities. Its history of rushing assistance to disaster victims was reflected this year in its response to the devastating earthquake in Haiti, which also claimed the lives of many United Nations officers. And, through its health, education, and development programs, the United Nations is helping empower the next generation of world leaders. Although difficulties remain, the dialogue fostered and actions taken by the United Nations will continue to strengthen the foundations of freedom across the globe.

Though the future we envision for all the world’s children may not come easily, the founding of the United Nations itself is a testament to human progress. Let us continue to be guided by its founders’ soaring example, and move through the conflicts and divisions of our time to a day when people from every part of this world can live together in peace.

NOW, THEREFORE, I, BARACK OBAMA, President of the United States of America, by virtue of the authority vested in me by the Constitution and the laws of the United States, do hereby proclaim October 24, 2010, as United Nations Day. I urge the Governors of the 50 States, and the officials of all other areas under the flag of the United States, to observe United Nations Day with appropriate ceremonies and activities.

IN WITNESS WHEREOF, I have hereunto set my hand this twenty-second day of October, in the year of our Lord two thousand ten, and of the Independence of the United States of America the two hundred and thirty-fifth.

[FR Doc. 2010-27189

Filed 10-25-10; 8:45 am]

Billing code 3195-W1-P